DEPARTMENT OF HEALTH AND HUMAN SERVICES

Meeting of the National Vaccine Advisory Committee; Public Participation Working Group

AGENCY: Department of Health and Human Services, Office of the Secretary.

ACTION: Notice.

SUMMARY: The Department of Health and Human Services (DHHS) is hereby giving notice that the Public Participation Working Group of the National Vaccine Advisory Committee (NVAC) will hold a meeting. The purpose of this meeting is to provide the Working Group with an overview of different public engagement models and to learn how these models might be applied in developing a public engagement model for vaccine policy issues. The meeting is open to the public.

DATES: The meeting will be held on September 13, 2004, from 9 a.m. to 4:30 p.m., and on September 14, 2004, from 9 a.m. to 4:30 p.m.

ADDRESSES: Department of Health and Human Services; Hubert H. Humphrey Building, Room 705A; 200 Independence Avenue, SW., Washington, DC 20201.

FOR FURTHER INFORMATION, CONTACT: Ms. Erika Joyner, Program Analyst, National Vaccine Program Office, Department of Health and Human Services, Room 725H Hubert H. Humphrey Building, 200 Independence Avenue, SW., Washington, DC 20201; (202) 690-5566, ejoyner@osophs.dhhs.gov.

SUPPLEMENTARY INFORMATION: Pursuant to Section 2101 of the Public Service Act (42 U.S.C. Section 300aa-1), the Secretary of Health and Human Services was mandated to establish the National Vaccine Program (NVP) to achieve optimal prevention of human infectious diseases through immunization and to achieve optimal prevention against adverse reactions to vaccines. The Secretary designated the Assistant Secretary for Health to serve as the Director, NVPO. The National Vaccine Advisory Committee (NVAC) was established to provide advice and make recommendations to the Director, NVPO, on matters related to the program's responsibilities. A Public Participation Working Group has been established to assess how to enhance public engagement in vaccine policy issues.

A number of Federal models for enhancing public engagement will be examined. A tentative agenda will be made available on or about September 6 for review on the NVAC Web site: http://www.hhs.gov/nvpo/nvac.

Public attendance at the meeting is limited to space available. Individuals must provide a photo ID for entry into the Humphrey Building. Individuals who plan to attend and need special assistance, such as sign language interpretation or other reasonable accommodations, should notify the designated contact person. Members of the public will have the opportunity to provide comments at the meeting. Public comment will be limited to five minutes per speaker. Preregistration is required for both public attendance and comment. Any individual who wishes to attend the meeting and/or participate in the public comment session should email ejoyner@osophs.dhhs.gov.

Dated: August 25, 2004.
Bruce Gellin,
Director, National Vaccine Program Office, Executive Secretary, National Vaccine Advisory Committee.

[FR Doc. 04-19708 Filed 8-27-04; 8:45 am]

BILLING CODE 4150-28-P